DEPARTMENT OF TRANSPORTATION

Federal Aviation Administration

[Docket No. FAA-2020-0141]

Agency Information Collection Activities: Requests for Comments; Clearance of a New Approval of Information Collection: FAA Veteran's Flight Training Services Workforce Development Grant Program

AGENCY: Federal Aviation Administration (FAA), DOT.

ACTION: Notice and request for comments.

SUMMARY: In accordance with the Paperwork Reduction Act of 1995, FAA invites public comments about our intention to request the Office of Management and Budget (OMB) approval for a new information collection. The collection involves the establishment of a new grant program in the FAA for Veteran's Flight Training Services Workforce Development. The information to be collected will be used for selecting projects.

DATES: Written comments should be submitted by April 10, 2020.

ADDRESSES: Please send written comments:

By Electronic Docket: www.regulations.gov (Enter docket number into search field).

By mail: Linda Long, William J. Hughes Technical Center, Atlantic City International Airport, B300, 2nd Floor, Column H-15, Atlantic City, NJ 08405.

By fax: 609-485-4101.

FOR FURTHER INFORMATION CONTACT: Linda Long by email at: Linda.Long@faa.gov; phone: 609-485-8902.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: FAA Veteran's Flight Training Services Workforce Development Grant Program.

Form Numbers:

SF-424_2_1-V2.1 Application for Federal Assistance

SF-424A-V1.0 Budget Narrative

SF424B-V1.1, Assurances Non-Construction

Project/Performance Site Location_2_0-V2.0

Project Narrative, Project Narrative Attachments_1_2-V1.2

Attachment Form_1-2-V1.2

SF-LLL_1_2-V1.2, Disclosure of Lobbying Activities

GG Lobbying Form-v1.1, Certification Regarding Lobbying

Key Contacts-V1.0,

SF-272, Federal Cash Transactions

SF-3881, ACH Vendor Payment Enrollment

Type of Review: New information collection.

Background: This is a new collection and is required to retain a benefit from the Federal Aviation Administration's (FAA). The new collection will be conducted for reporting purposes and will assist in the FAA in administering a new Veteran's Flight Training Services Workforce Development Grant Program. As part of the FAA's FY20 appropriation, Congress directed the FAA to use a portion of the appropriation to help facilitate the future supply of adequate pilots and to award competitive grants with a priority given to accredited flight schools by the Department of Education or hold a restricted airline transport pilot letter of authorization. The collection will be conducted by the FAA in applications for grant awards not more frequently than annually with bi-annual final reports from all grant recipients. It will provide critical data on locations where the grant dollars are being used to plan and respond the aircraft pilot workforce shortage. This information will provide the FAA with an indication of where gaps exist in planning for the workforce shortage and will help the FAA determine which projects have the great ability to help address the forecasted aircraft pilot shortage. At a date that is still to be determined, the FAA will post a Notice of Funding Opportunity (NOFO) www.grants.gov upon completing the Paperwork Reduction Act's required 30 Day Federal Register Notice, Office of Management and Budget (OMB) review period and OMB's final issuance of a Paperwork Reduction Act Clearance number for the program.

Respondents: The FAA estimates approximately 30 respondents from Accredited flight schools by the Department of Education or hold a restricted airline transport pilot letter of authorization.

Frequency: The collection will be conducted by the FAA in applications for grant awards not more frequently than annually with bi-annual and final reports from all grant recipients.

Estimated Average Burden per Response: 4 Hours.

Estimated Total Annual Burden: 360 Hours (4 Hours × 30 respondents × 3 responses per year).

Linda A Long,
Program Manager, Aviation Workforce Development Grant Programs, NextGen Partnership Contracts Branch (ANG-A17).

[FR Doc. 2020-02567 Filed 2-7-20; 8:45 am]

BILLING CODE 4910-13-P